DEPARTMENT OF ENERGY

Federal Energy Regulatory Commission

Combined Notice of Filings # 1

August 05, 2009.

Take notice that the Commission received the following exempt wholesale generator filings:

Docket Numbers: EG09-76-000.

Applicants: Sollunar Energy, Inc.

Description: Amendment to Application of Sollunar Energy, Inc.

Filed Date: 08/04/2009.

Accession Number: 20090804-5092.

Comment Date: 5 p.m. Eastern Time on Tuesday, August 25, 2009.

Take notice that the Commission received the following electric rate filings:

Docket Numbers: ER97-4281-020.

Applicants: NRG Power Marketing LLC, Louisiana Generating LLC, Bayou Cove Peaking Power LLC, Big Cajun I Peaking Power LLC, NRG Sterlington Power LLC.

Description: NRG Power Marketing, LLC submits an amendment to its 6/30/09 request for classification as Category 1 seller in the Central and Southwest Power Pool regions as amended on 7/22/09.

Filed Date: 08/03/2009.

Accession Number: 20090805-0017.

Comment Date: 5 p.m. Eastern Time on Monday, August 24, 2009.

Docket Numbers: ER99-1610-036; ER99-1610-037; ER98-4590-029; ER98-2640-032.

Applicants: Southwestern Public Service Company; Public Service Company of Colorado; Northern States Power Companies.

Description: Southwestern Public Service Company submits market-based rate authorization Triennial Market Power Analysis and a change in status report.

Filed Date: 07/31/2009.

Accession Number: 20090804-0158.

Comment Date: 5 p.m. Eastern Time on Tuesday, September 29, 2009.

Docket Numbers: ER07-1130-003; ER97-4143-021; ER98-2075-026; ER98-542-023.

Applicants: AEP Service Corporation, AEP Energy Partners, Inc., CSW Energy Services, Inc., Central and South West Services, Inc.

Description: American Electric Power Service Corporation submits updated market power analysis.

Filed Date: 07/31/2009.

Accession Number: 20090805-0013.

Comment Date: 5 p.m. Eastern Time on Tuesday, September 29, 2009.

Docket Numbers: ER01-3103-018.

Applicants: Astoria Energy LLC, Astoria Energy II LLC.

Description: Astoria Energy Files Under Ord. 697-C re Astoria Energy II.

Filed Date: 07/31/2009.

Accession Number: 20090731-5132.

Comment Date: 5 p.m. Eastern Time on Friday, August 21, 2009.

Docket Numbers: ER09-1412-001.

Applicants: U.S. Energy Partners LLC.

Description: US Energy Partners, LLC submits revised Petition for Acceptance of Initial Tariff, Waivers and Blanket Authority.

Filed Date: 08/04/2009.

Accession Number: 20090805-0024.

Comment Date: 5 p.m. Eastern Time on Tuesday, August 25, 2009.

Docket Numbers: ER09-1426-002.

Applicants: Lehman Brothers Commodity Services Inc.

Description: Lehman Brothers Commodity Services, Inc. submits notice of cancellation of First Revised FERC Electric Tariff No. 1, effective 9/30/09.

Filed Date: 07/31/2009.

Accession Number: 20090804-0152.

Comment Date: 5 p.m. Eastern Time on Friday, August 21, 2009.

Docket Numbers: ER09-1541-000.

Applicants: MidAmerican Energy Company.

Description: MidAmerican Energy Company submits Affected Systems Engineering and Procurement Agreement dated 7/24/09 with Interstate Power and Light Co.

Filed Date: 08/03/2009.

Accession Number: 20090804-0153.

Comment Date: 5 p.m. Eastern Time on Monday, August 24, 2009.

Docket Numbers: ER09-1542-000.

Applicants: California Independent System Operator Corporation.

Description: California Independent System Operator Corporation submits an amendment to its tariff etc.

Filed Date: 08/03/2009.

Accession Number: 20090804-0154.

Comment Date: 5 p.m. Eastern Time on Monday, August 24, 2009.

Docket Numbers: ER09-1543-000.

Applicants: Midwest Independent Transmission System Operator, Inc.

Description: Midwest Independent Transmission System Operator, Inc. submits proposed revisions to Section 22.3 of its Open Access Transmission, Energy and Operating Reserve Markets Tariff.

Filed Date: 08/04/2009.

Accession Number: 20090804-0161.

Comment Date: 5 p.m. Eastern Time on Tuesday, August 25, 2009.

Docket Numbers: ER09-1545-000.

Applicants: Portland General Electric Company.

Description: Portland General Electric Company submits Average System Cost filing for sales of electric power to the Bonneville Power Administration.

Filed Date: 08/04/2009.

Accession Number: 20090805-0022.

Comment Date: 5 p.m. Eastern Time on Tuesday, August 25, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-19267 Filed 8-11-09; 8:45 am]

BILLING CODE 6717-01-P